DEPARTMENT OF THE INTERIOR

National Park Service

[NPS-WASO-NAGPRA-NPS0027164; PPWOCRADN0-PCU00RP14.R50000]

Notice of Inventory Completion: Pueblo Grande Museum, Phoenix, AZ

AGENCY: National Park Service, Interior.

ACTION: Notice.

SUMMARY: The Pueblo Grande Museum has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Pueblo Grande Museum. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Pueblo Grande Museum at the address in this notice by March 11, 2019.

ADDRESSES: Lindsey Vogel-Teeter, Pueblo Grande Museum, 4619 E Washington Street, Phoenix, AZ 85331, telephone (602) 495-0901, email lindsey.vogel-teeter@phoenix.gov.

SUPPLEMENTARY INFORMATION: Notice is here given in accordance with the Native American Graves Protection and Repatriation Act (NAGPRA), 25 U.S.C. 3003, of the completion of an inventory of human remains under the control of the Pueblo Grande Museum, Phoenix, AZ. The human remains were removed from Tuzigoot pueblo, Yavapai County, AZ.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Pueblo Grande Museum professional staff in consultation with representatives of the Fort McDowell Yavapai Nation, Arizona; Gila River Indian Community of the Gila River Indian Reservation, Arizona; Hopi Tribe of Arizona; Salt River Pima-Maricopa Indian Community of the Salt River Reservation, Arizona; Yavapai-Apache Nation of the Camp Verde Indian Reservation, Arizona; Yavapai-Prescott Indian Tribe (previously listed as the Yavapai-Prescott Tribe of the Yavapai Reservation, Arizona); and the Zuni Tribe of the Zuni Reservation, New Mexico.

National Park Service staff in the Southern Arizona Office and the Intermountain Region Museum Services Program were consulted regarding the control of these human remains. In an email on 5/14/2018, they stated that Pueblo Grande Museum has control of these human remains.

History and Description of the Remains

At an unknown date prior to 1950, human remains representing, at minimum, three individuals were removed from Tuzigoot pueblo in Yavapai County, AZ, by an unknown collector. Around 1950, the human remains were donated by Mrs. Adele DeLong (or Mrs. Adelede Long) to the Arizona Museum, which later became the Phoenix Museum of History. On September 10, 2009, the human remains were transferred from the Phoenix Museum of History (which closed in 2009) to the Pueblo Grande Museum. The fragmentary human remains belong to one, possibly male, adult; one, possibly female, young-adult; and one child of indeterminate sex between the ages of 7-8 years old. No known individuals were identified. No associated funerary objects are present. Tuzigoot pueblo is a large, prehistoric Sinagua habitation site occupied between A.D. 1125 and A.D. 1425.

The Ak-Chin Indian Community (previously listed as the Ak Chin Indian Community of the Maricopa (Ak Chin) Indian Reservation, Arizona); Gila River Indian Community of the Gila River Indian Reservation, Arizona; Salt River Pima-Maricopa Indian Community of the Salt River Reservation, Arizona; and the Tohono O'odham Nation of Arizona comprise one cultural group known as the O'odham. The material culture found at Tuzigoot pueblo demonstrates continuity between the earlier people at the prehistoric site and the present-day O'odham.

The Fort McDowell Yavapai Nation, Arizona; Yavapai-Apache Nation of the Camp Verde Indian Reservation, Arizona; and theYavapai-Prescott Indian Tribe (previously listed as the Yavapai-Prescott Tribe of the Yavapai Reservation, Arizona) comprise one cultural group known as the Yavapai. They trace their ancestry to bands once living in the Verde Valley. Archeological sites identified as Yavapai and located within Yavapai traditional lands have also been found in and near Tuzigoot pueblo.

The Hopi Tribe of Arizona considers all of Arizona to be within traditional Hopi lands or within areas where Hopi clans migrated in the past. Oral traditions and material culture, including pottery traditions, demonstrate continuity between the prehistoric village of Tuzigoot pueblo and the Hopi people.

The Zuni Tribe of the Zuni Reservation, New Mexico, considers the Verde Valley to be within the migration path of ancestral Zuni people. Archeological evidence, including similarities in ceramic designs demonstrates continuity between the prehistoric people of the Verde Valley and the people of Zuni.

Determinations Made by the Pueblo Grande Museum

Officials of the Pueblo Grande Museum have determined that:

• Pursuant to 25 U.S.C. 3001(9), the human remains described in this notice represent the physical remains of three individuals of Native American ancestry.

• Pursuant to 25 U.S.C. 3001(2), there is a relationship of shared group identity that can be reasonably traced between the Native American human remains and the Ak-Chin Indian Community (previously listed as the Ak Chin Indian Community of the Maricopa (Ak Chin) Indian Reservation, Arizona); Fort McDowell Yavapai Nation, Arizona; Gila River Indian Community of the Gila River Indian Reservation, Arizona; Hopi Tribe of Arizona; Salt River Pima-Maricopa Indian Community of the Salt River Reservation, Arizona; Tohono O'odham Nation of Arizona; Yavapai-Apache Nation of the Camp Verde Indian Reservation, Arizona; Yavapai-Prescott Indian Tribe (previously listed as the Yavapai-Prescott Tribe of the Yavapai Reservation, Arizona); and the Zuni Tribe of the Zuni Reservation, New Mexico, hereafter referred to as “The Tribes.”

Additional Requestors and Disposition

Lineal descendants or representatives of any Indian Tribe or Native Hawaiian organization not identified in this notice that wish to request transfer of control of these human remains should submit a written request with information in support of the request to Lindsey Vogel-Teeter, Pueblo Grande Museum, 4619 E Washington Street, Phoenix, AZ 85331, telephone (602) 495-0901, email lindsey.vogel-teeter@phoenix.gov, by March 11, 2019. After that date, if no additional requestors have come forward, transfer of control of the human remains to The Tribes may proceed.

The Pueblo Grande Museum is responsible for notifying The Tribes that this notice has been published.

Dated: December 11, 2018.
Melanie O'Brien,
Manager, National NAGPRA Program.

[FR Doc. 2019-01626 Filed 2-7-19; 8:45 am]

BILLING CODE 4312-52-P